DEPARTMENT OF ENERGY

Federal Energy Regulatory Commission

[Docket No. EL01-68-000]

Investigation of Wholesale Rates of Public Utility Sellers of Energy and Ancillary Services in the Western Systems Coordinating Council; Notice of Technical Conference Concerning West-Wide Price Mitigation for the Winter Season and Procedures for Seeking Participation

October 12, 2001.

Take notice that the Commission is convening a technical conference to be held on Monday, October 29, 2001, at the Federal Energy Regulatory Commission, 888 First Street, NE., Washington, DC 20426. The Technical Conference will commence at 1 p.m. and will be open to all interested persons. On June 19, 2001, the Commission prescribed price mitigation for California spot markets and markets throughout the West.¹ In that order, the Commission also invited interested parties to file with the Commission comments and proposals for the purpose of revisiting the mitigation methodology for future periods, if necessary. This technical conference will address possible modifications to the current West-wide price mitigation methodology for the winter season.

¹ See San Diego Gas & Electric Company v. Sellers of Energy and Ancillary Service Into Markets Operated by the California Independent System Operator Corporation and the California Power Exchange, 95 FERC ¶ 61,418 at 62,570 (2001).

As a starting point for discussions at the conference, and based on the comments that were filed, possible modifications to the current price mitigation methodology include the following: (1) Eliminate the 10 percent adder for sales into California; and (2) require the California Independent System Operator to not only recalculate the price for spot market transactions when there is a Stage 1 reserve deficiency, but also recalculate the price when the average of the three gas indices increase by 10 percent above the level last used for calculating the mitigated price (i.e., 66 cents based on the current average of $6.64/MMBtu).

Persons wishing to speak at the conference must submit a request to make a statement in the above-captioned dockets. The request should be submitted by e-mail to David Boergers at david.boergers@ferc.fed.us (include Docket No. EL01-68-000 in the subject heading of the e-mail), and should be followed up, at the same time, with a letter to the Secretary of the Commission. The request should clearly specify the name of the person desiring to speak, his or her title and affiliation, and the party or parties the speaker represents. There will be limited opportunity to participate via teleconferencing. Persons wanting to participate in this manner should specify their interest in their request to speak. In addition, the request should include a telephone number for notifying the speaker. The request should also include a brief summary of the issue or issues the speaker wishes to address, not to exceed one page. All e-mail requests must be submitted on or before Wednesday, October 17, 2001.

The number of persons desiring to speak at the conference may exceed the time available. Thus, interested persons are encouraged to join with other persons with similar interests. Based on the requests to participate, panels of speakers will be specified. The Secretary will issue a notice listing the speakers and panels for the conference.

In addition, all interested persons are invited to submit written comments on matters addressed at the conference. These comments should be submitted on or before November 9, 2001, in the above-captioned proceedings. All comments will be placed in the Commission's public files and will be available for inspection in the Commission's Public Reference Room at 888 First Street, NE., Washington, DC 20426, during regular business hours. Additionally, all comments may be viewed, printed, or downloaded remotely via the Internet through FERC's Homepage using the RIMS link. User assistance for RIMS is available at 202-208-2222, or by e-mail to rimsmaster@ferc.fed.us.

Comments related to this proceeding may be filed either in paper format or electronically. Those filing electronically do not need to make a paper filing.

For paper filings, the original and 14 copies of the comments should be submitted to the Office of the Secretary, Federal Energy Regulatory Commission, 888 First Street, NE., Washington, DC 20426 and should refer to Docket No. EL01-68-000.

Comments filed electronically via the Internet must be prepared in WordPerfect, MS Word, Portable Document Format, or ASCII format. To file the comments, access the Commission's website at www.ferc.gov and click on “Make An E-Filing,” and then follow the instructions for each screen. First time users will have to establish a user name and password. The Commission will send an automatic acknowledgment to the sender's e-mail address upon receipt of comments. User assistance for electronic filing is available at 202-208-0258 or by e-mail to efiling@ferc.fed.us. Comments should not be submitted to the e-mail address.

The conference will be transcribed. Those interested in obtaining transcripts need to contact ACE Federal Reporters, at 202-347-3700.

The Capitol Connection will broadcast the conference via the Internet and by phone. To find out more about The Capitol Connection's live Internet and phone bridge, contact David Reininger or Julia Morelli at 703-993-3100 or go to www.capitolconnection.gmu.edu.

Live and archived audio of the conference will also be available for a fee via National Narrowcast Network. Live audio is available by telephone at 202-966-2211 and by subscription on the Web at www.hearing.com. The Web audio will be archived and available for listening after the event is completed. Billing is based on listening time.

Anyone interested in purchasing videotapes of the conference should call VISCOM at 703-715-7999.

Questions about the conference program should be directed to: Camilla Ng, Federal Energy Regulatory Commission, 888 First Street, NE., Washington, DC 20426, 202-208-0706, camilla.ng@ferc.fed.us.

David P. Boergers,
Secretary.

[FR Doc. 01-26254 Filed 10-17-01; 8:45 am]

BILLING CODE 6717-01-P